DEPARTMENT OF LABOR

Employment and Training Administration

[TA-W-60,700]

Quality Staffing Services Working at Filtronic Comtek, Inc., Salisbury, MD; Notice of Termination of Investigation

Pursuant to Section 221 of the Trade Act of 1974, as amended, an investigation was initiated on January 4, 2007 in response to a petition filed by a state agency represenative on behalf of workers of Quality Staffing Services, working at Filtronic Comtek, Inc., Salisbury, Maryland. The workers at the subject facility produce filters for cell tower base stations.

The petitioning group of workers is covered by an earlier petition (TA-W-60,699) filed on January 3, 2007 that is the subject of an ongoing investigation for which a determination has not yet been issued. Further investigation in this case would duplicate efforts and serve no purpose; therefore the investigation under this petition has been terminated.

Signed in Washington, DC, this 18th day of January 2007.
Richard Church,
Certifying Officer, Division of, Trade Adjustment Assistance.

[FR Doc. E7-1696 Filed 2-1-07; 8:45 am]

BILLING CODE 4510-30-P